DEPARTMENT OF COMMERCE

National Oceanic and Atmospheric Administration

50 CFR Part 253

[Docket No. 0908061221-91225-01]

RIN 0648-AY16

Merchant Marine Act and Magnuson-Stevens Fishery Conservation and Management Act Provisions; Fishing Vessel, Fishing Facility and Individual Fishing Quota Lending Program Regulations; Correction

AGENCY: National Marine Fisheries Service (NMFS), National Oceanic and Atmospheric Administration (NOAA), Commerce.

ACTION: Proposed rule, correction and reopening of comment period.

SUMMARY: NMFS published a proposed rule on May 5, 2010, amending the Fisheries Finance Program's programmatic regulations. The proposed rule was published with an incorrect Regulatory Identification Number (RIN) in the ADDRESSES section. Members of the public using the incorrect RIN may have had difficulty posting comments at http://www.regulations.gov. In order to allow anyone adversely affected by the mistake to submit comments, NMFS reopens the comment period and requests additional comments for two weeks.

DATES: NMFS invites the public to comment on the proposed rule published at 75 FR 24549. Comments must be submitted in writing on or before September 8, 2010.

ADDRESSES: You may submit comments on the proposed rule, identified by RIN 0648-AY16 by any one of the following methods:

• Electronic Submissions: Submit all electronic public comments via the Federal eRulemaking Portal at http://www.regulations.gov.

• Fax: (301) 713-1306, Attn: Earl Bennett.

• Mail: Earl Bennett, Acting Chief, Financial Services Division, NMFS, Attn: F/MB5, 1315 East-West Highway, SSMC3, Silver Spring, MD 20910.

Instructions: All comments received are a part of the public record and will generally be posted to http://www.regulations.gov without change. All Personal Identifying Information (for example, name, address, etc.) voluntarily submitted by the commenter may be publicly accessible. Do not submit Confidential Business Information or otherwise sensitive or protected information.

NMFS will accept anonymous comments (enter N/A in the required fields if you wish to remain anonymous). Attachments to electronic comments will be accepted in Microsoft Word, Excel, WordPerfect, or Adobe PDF file formats only. Written comments regarding the burden-hour estimates or other aspects of the collection-of-information requirements contained in this proposed rule may be submitted to earl.bennett@noaa.gov or david.rostker@omb.eop.gov or faxed to (202) 395-7285.

FOR FURTHER INFORMATION CONTACT: Earl Bennett, (301) 713-2390 x 187, earl.bennett@noaa.gov.

SUPPLEMENTARY INFORMATION:

Need for Correction

On May 5, 2010, NMFS published a proposed rule at 75 FR 24549, which can be viewed at http://www.fakr.noaa.gov/prules/75fr24549.pdf.

The ADDRESSES section of the proposed rule contained an incorrect RIN. Although members of the public submitting comments by mail, fax and e-mail to the addresses listed in the proposed rule would have been unaffected, those attempting to post comments at http://www.regulations.gov may have been hindered from posting comments because of this error. In order to allow anyone adversely affected by the mistake the opportunity to comment, NMFS will take comments for an additional two weeks.

The new sentence in the ADDRESSES section of column one in 75 FR 24550 should read: “You may submit comments, identified by 0648-AY16, by any one of the following methods:”

Dated: August 20, 2010.
Samuel D. Rauch III,
Deputy Assistant Administrator for Regulatory Programs, National Marine Fisheries Service.

[FR Doc. 2010-21135 Filed 8-24-10; 8:45 am]

BILLING CODE 3510-22-P